DEPARTMENT OF DEFENSE

Department of the Army

Availability for Non-Exclusive, Exclusive, or Partially Exclusive Licensing of U.S. Patents Concerning Prophylactic and Therapeutic Monoclonal Antibodies

AGENCY: Department of the Army, DoD.

ACTION: Notice.

SUMMARY: In accordance with 37 CFR 404.6 and 404.7, announcement is made of the availability for licensing of U.S. Patent No. 6,451,309 entitled “Prophylactic and Therapeutic Monoclonal Antibodies,” issued September 17, 2002; and U.S. Patent No. 6,620,412 entitled, “Prophylactic and Therapeutic Monoclonal Antibodies,” issued September 16, 2003, which is a continuation of U.S. Patent No. 6,451,309. Foreign rights are also available (PCT/US01/04520). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: In this application are described vaccinia monoclonal antibodies. Also provided are mixtures of antibodies of the present invention, as well as methods of using individual antibodies or mixtures thereof for the detection, prevention, and/or therapeutic treatment of vaccinia virus infections in vitro and in vivo.

Brenda S. Bowen,
Army Federal Register Liaison Officer.

[FR Doc. E8-15324 Filed 7-3-08; 8:45 am]

BILLING CODE 3710-08-P